DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: Evacuation Movement and Behavior Questionnaire.

OMB Control Number: 0693-0051.

Type of Request: Regular.

Burden Hours: 3,334.

Number of Respondents: 20,000.

Average Hours per Response: 10 minutes.

Needs and Uses: The NIST's Engineering Laboratory, formally the Building and Fire Research Laboratory, has established project efforts to better understand occupant egress from high-rise buildings. Buildings of interest include varying heights, and of varying occupancy types, e.g., residential, office, and assembly occupancies. Data will be collected via questionnaires on occupant behavior during regularly scheduled evacuation drills from high-rise building across the United States. All of these evacuation drills will be conducted regardless of whether NIST data collection takes place. The occupant behavioral data requested will involve the occupants' knowledge of the procedure, their awareness of the event, and their behavior during the evacuation. This data will be used to improve egress designs for buildings, safety assessment models, and occupant training and education about what to do in an emergency.

Affected Public: Individuals or households (selected individuals who have evacuated high-rise buildings in cities across the U.S. during scheduled evacuation drills).

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: November 4, 2011.
Gwellnar Banks,
Management Analyst, Office of the Chief Information Officer.

[FR Doc. 2011-29101 Filed 11-9-11; 8:45 am]

BILLING CODE 3510-13-P